DEPARTMENT OF TRANSPORTATION

Office of the Secretary

Aviation Proceedings, Agreements Filed the Week Ending December 12, 2009

The following Agreements were filed with the Department of Transportation under the Sections 412 and 414 of the Federal Aviation Act, as amended (49 U.S.C. 1382 and 1384) and procedures governing proceedings to enforce these provisions. Answers may be filed within 21 days after the filing of the application.

Docket Number: DOT-OST-2009-0325.

Date Filed: December 8, 2009.

Parties: Members of the International Air Transport Association.

Subject: TC3 Japan, Korea, Resolutions and Specified Fares Tables (Memo 1331), Intended effective date: 1 April 2010.

Docket Number: DOT-OST-2009-0326.

Date Filed: December 8, 2009.

Parties: Members of the International Air Transport Association.

Subject: TC3 Japan, Korea—South Asian Subcontinent Resolutions and Specified Fares Tables, (Memo 1332) & Technical Corrections (Memo 1340), Intended effective date: 1 April 2010.

Docket Number: DOT-OST-2009-0327.

Date Filed: December 8, 2009.

Parties: Members of the International Air Transport Association.

Subject: TC3 Japan, Korea—South East Asia except between Korea (Rep. of) and Guam, Northern Mariana Islands Resolutions and Specified Fares Tables (Memo 1333) & Technical Corrections (Memo 1341), Intended effective date: 1 April 2010.

Docket Number: DOT-OST-2009-0328.

Date Filed: December 8, 2009.

Parties: Members of the International Air Transport Association.

Subject: TC3 Within South East Asia except between Malaysia and Guam Resolutions and Specified Fares Tables (Memo 1334), Intended effective date: 1 April 2010.

Docket Number: DOT-OST-2009-0330.

Date Filed: December 8, 2009.

Parties: Members of the International Air Transport Association.

Subject: TC3 South East Asia-South Asian Subcontinent Resolutions and Specified Fares Tables (Memo 1335), Intended effective date: 1 April 2010.

Docket Number: DOT-OST-2009-0331.

Date Filed: December 8, 2009.

Parties: Members of the International Air Transport Association.

Subject: TC3 Within South Asian Subcontinent Resolutions (Memo 1336), Intended effective date: 1 April 2010.

Docket Number: DOT-OST-2009-0332.

Date Filed: December 8, 2009.

Parties: Members of the International Air Transport Association.

Subject: TC3 Within South East Asia from Malaysia to Guam Resolutions & Specified Fares Tables (Memo 1337), Intended effective date: 1 April 2010.

Docket Number: DOT-OST-2009-0333.

Date Filed: December 8, 2009.

Parties: Members of the International Air Transport Association.

Subject: TC3 Japan, Korea-South East Asia between Korea (Rep. of) and Guam, Northern Mariana Islands Resolutions & Specified Fares Tables (Memo 1338) & TC3 Minutes (Memo 1339), Intended effective date: 1 April 2010.

Docket Number: DOT-OST-2009-0334.

Date Filed: December 8, 2009.

Parties: Members of the International Air Transport Association.

Subject: Composite Passenger Tariff Coordinating Conference; Resolution 017c (Memo 1555), Intended effective date: 1 April 2010.

Docket Number: DOT-OST-2009-0335.

Date Filed: December 8, 2009.

Parties: Members of the International Air Transport Association.

Subject: Mail Vote 615—Flex Fares Package; TC23/123 Europe-Japan, Korea Resolutions (Memo 0192), Intended effective date: 1 April 2010.

Docket Number: DOT-OST-2009-0336.

Date Filed: December 8, 2009.

Parties: Members of the International Air Transport Association.

Subject: Mail Vote 614—Flex Fares Package; TC23 Europe-South East Asia Resolutions (Memo 0294), Intended effective date: 1 April 2010.

Barbara J. Hairston,
Supervisory Dockets Officer, Docket Operations, Alternate Federal Register Liaison.

[FR Doc. 2010-132 Filed 1-7-10; 8:45 am]

BILLING CODE 4910-62-P